DEPARTMENT OF THE TREASURY

Internal Revenue Service

Proposed Collection; Form 15227

AGENCY: Internal Revenue Service (IRS), Treasury.

ACTION: Notice; supplement.

SUMMARY: The IRS published a document in the Federal Register on September 8, 2020, concerning requests for comments on Form 15227. This form does not require an Office of Management and Budget (OMB) control number, further public comments are not being solicited.

FOR FURTHER INFORMATION CONTACT: Requests for additional information should be directed to Martha R. Brinson, at (202) 317-5753, or at Internal Revenue Service, Room 6526, 1111 Constitution Avenue NW, Washington, DC 20224, or through the internet at Martha.R.Brinson@irs.gov.

SUPPLEMENTARY INFORMATION: The IRS published a document at 85 FR 55579 in the Federal Register of September 8, 2020, concerning requests for comments on Form 15227. Under 5 CFR 1320.3(h)(1), the form does not require an OMB control number, further public comments are not being solicited.

Approved: December 16, 2020.
Chakinna B. Clemons,
Supervisory Tax Analyst.

[FR Doc. 2020-28145 Filed 1-5-21; 8:45 am]

BILLING CODE 4830-01-P